DEPARTMENT OF ENERGY

Federal Energy Regulatory Commission

Combined Notice of Filings

Take notice that the Commission has received the following Natural Gas Pipeline Rate and Refund Report filings:

Filings Instituting Proceedings

Docket Numbers: RP22-1102-000.

Applicants: MOGAS PIPELINE LLC.

Description: Annual Report on Revenue from Penalties Subject to Crediting of MoGas Pipeline LLC.

Filed Date: 7/29/22.

Accession Number: 20220729-5395.

Comment Date: 5 p.m. ET 8/10/22.

Docket Numbers: RP22-1105-000.

Applicants: Anadarko US Offshore LLC, Murphy Exploration & Production Company—USA, Eni Petroleum US LLC, INPEX Americas, Inc.

Description: Joint Petition for Temporary Waiver of Capacity Release Regulations, et al. of Anadarko US Offshore LLC, et al.

Filed Date: 7/29/22.

Accession Number: 20220729-5398.

Comment Date: 5 p.m. ET 8/10/22.

Docket Numbers: RP22-1106-000.

Applicants: East Tennessee Natural Gas, LLC.

Description: § 4(d) Rate Filing: MAD Service Charge and Action Alert Penalty Filing to be effective 10/1/2022,

Filed Date: 8/3/22.

Accession Number: 20220803-5015.

Comment Date: 5 p.m. ET 8/15/22.

Docket Numbers: RP22-1107-000.

Applicants: El Paso Natural Gas Company, L.L.C.

Description: § 4(d) Rate Filing: Negotiated Rate Agreement Update (SoCal August 2022) to be effective 8/3/2022.

Filed Date: 8/3/22.

Accession Number: 20220803-5037.

Comment Date: 5 p.m. ET 8/15/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-993-000.

Applicants: Cove Point LNG, LP.

Description: Report Filing: Cove Point—2022 Report of Operational Sales and Purchases of Gas to be effective N/A.

Filed Date: 7/29/22.

Accession Number: 20220729-5055.

Comment Date: 5 p.m. ET 8/10/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2022.
Kimberly D. Bose,
Secretary.

[FR Doc. 2022-17149 Filed 8-9-22; 8:45 am]

BILLING CODE 6717-01-P